DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before April 5, 2010. Address written comments to Statutory Import Programs Staff, Room 3720, U.S. Department of Commerce, Washington, DC 20230. Applications may be examined between 8:30 a.m. and 5 p.m. at the U.S. Department of Commerce in Room 3720.

Docket Number: 10-002.

Applicant: University of Michigan, 1301 Beal Avenue, Ann Arbor, MI 49109-2122.

Instrument: Tester for TFT Imager.

Manufacturer: Siemens AG, Corporate Technology, Germany.

Intended Use: This instrument will be used to analyze the image capturing capability of amorphous silicon TFT and organic photo-diode. This instrument must be capable of measuring dynamic rate, linearity and noise. It must also support voltages in the rate of -10 V to 20 V and support maximum 60 Hz scanning speed. Another pertinent specification for this instrument is that it must be capable of working with an imager, having 128 rows and 128 columns.

Justification for Duty-Free Entry: No instruments of same general category are manufactured in the United States. Application accepted by Commissioner of Customs: January 29, 2010.

Dated: March 9, 2010.
Christopher Cassel,
Director, IA Subsidies Enforcement Office.

[FR Doc. 2010-5592 Filed 3-12-10; 8:45 am]

BILLING CODE 3510-DS-P